DEPARTMENT OF DEFENSE

Office of the Secretary

[Transmittal No. 23-37]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-37, Policy Justification, and Sensitivity of Technology.

Dated: September 24, 2024.
Aaron T. Siegel,
Alternate OSD Federal Register Liaison Officer, Department of Defense.

BILLING CODE 6001-FR-P

BILLING CODE 6001-FR-C

Transmittal No. 23-37

Notice of Proposed Issuance of Letter of Offer Pursuant to Section 36(b)(1) of the Arms Export Control Act, as amended

(i) Prospective Purchaser: Government of Poland

(ii) Total Estimated Value:

Major Defense Equipment * | $101.5 million
Other | $ 23.2 million
TOTAL | $124.7 million

Funding Source: National Funds

(iii) Description and Quantity or Quantities of Articles or Services under Consideration for Purchase:

Major Defense Equipment (MDE):

Thirty-four (34) AN/AAQ-33 Sniper Advanced Targeting Pods (ATP) with Shipping Containers

Non-MDE:

Also included are system support and support equipment; spare parts, consumables, accessories, and repair and return support; integration and test equipment and support; unclassified software delivery and support; unclassified Computer Program Identification Number (CPIN) systems; unclassified publications and technical documentation; personnel training and training equipment; U.S. Government and contractor engineering, technical and logistics support services; and other related elements of logistical and program support.

(iv) Military Department: Air Force (PL-D-QBD)

(v) Prior Related Cases, if any: PL-D-SAC

(vi) Sales Commission, Fee, etc., Paid, Offered, or Agreed to be Paid: None known at this time

(vii) Sensitivity of Technology Contained in the Defense Article or Defense Services Proposed to be Sold: See Attached Annex

(viii) Date Report Delivered to Congress: May 9, 2023

*As defined in Section 47(6) of the Arms Export Control Act.

POLICY JUSTIFICATION

Poland—Sniper Advanced Targeting Pods

The Government of Poland has requested to buy thirty-four (34) AN/AAQ-33 Sniper Advanced Targeting Pods (ATP) with Shipping Containers. Also included are system support and support equipment; spare parts, consumables, accessories, and repair and return support; integration and test equipment and support; unclassified software delivery and support; unclassified Computer Program Identification Number (CPIN) systems; unclassified publications and technical documentation; personnel training and training equipment; U.S. Government and contractor engineering, technical and logistics support services; and other related elements of logistical and program support. The estimated total cost is $124.7 million.

This proposed sale will support the foreign policy and national security objectives of the United States by helping to improve the security of a NATO Ally that is a force for political stability and economic progress in Europe.

The proposed sale will improve the tactical effectiveness of the FA-50 fighter aircraft that Poland is buying from the Republic of Korea by enhancing its abilities to identify targets, track, and engage from a standoff distance; it will also increase interoperability with U.S. and NATO forces. Poland will have no difficulty absorbing these articles into its armed forces.

The proposed sale of this equipment and support will not alter the basic military balance in the region.

The principal contractor will be Lockheed Martin, Orlando, Florida. There are no known offset agreements proposed in connection with this potential sale.

Implementation of this proposed sale will not require the assignment of any additional U.S. Government or contractor representatives to Poland.

There will be no adverse impact on U.S. defense readiness as a result of this proposed sale.

Transmittal No. 23-37

Notice of Proposed Issuance of Letter of Offer Pursuant to Section 36(b)(1) of the Arms Export Control Act

Annex

Item No. vii

(vii) Sensitivity of Technology:

1. The AN/AAQ-33 Sniper Advanced Targeting Pod (ATP) or LITENING Targeting Pod is a single, lightweight targeting pod for military aircraft that provides positive target identification, autonomous tracking, Global Positioning System (GPS) coordinate generation, and precise weapons guidance from extended standoff ranges. It incorporates a high-definition mid-wave Forward-Looking Infrared (FLIR), dual-mode laser, visible-light high-definition television (HDTV), laser spot tracker, video data link (VDL), and a digital data recorder.

2. The highest level of classification of defense articles, components, and services included in this potential sale is UNCLASSIFIED.

3. If a technologically advanced adversary were to obtain knowledge of the specific hardware and software elements, the information could be used to develop countermeasures that might reduce weapon system effectiveness or be used in the development of a system with similar or advanced capabilities.

4. A determination has been made that Poland can provide substantially the same degree of protection for the sensitive technology being released as the U.S. Government. This sale is necessary in furtherance of the U.S. foreign policy and national security objectives outlined in the Policy Justification.

5. All defense articles and services listed in this transmittal have been authorized for release and export to the Government of Poland.

[FR Doc. 2024-22239 Filed 9-26-24; 8:45 am]

BILLING CODE 6001-FR-P